DEPARTMENT OF COMMERCE

Foreign-Trade Zones Board

[B-8-2025]

Foreign-Trade Zone (FTZ) 35, Notification of Proposed Production Activity; PPL Healthcare dba Piramal Pharma Solutions (Piramal); (Cholesterol Medication); Philadelphia, Pennsylvania

Piramal submitted a notification of proposed production activity to the FTZ Board (the Board) for its facility within FTZ 35. The notification conforming to the requirements of the Board's regulations (15 CFR 400.22) was received on February 12, 2025.

Pursuant to 15 CFR 400.14(b), FTZ production activity would be limited to the specific finished product(s) described in the submitted notification (summarized below) and subsequently authorized by the Board. The benefits that may stem from conducting production activity under FTZ procedures are explained in the background section of the Board's website—accessible via www.trade.gov/ftz. The proposed finished products would be added to the production authority that the Board previously approved for the operation, as reflected on the Board's website.

The proposed finished products include: bempedoic acid tablets (180mg) and bempedoic oral suspension (duty-free).

Public comment is invited from interested parties. Submissions shall be addressed to the Board's Executive Secretary and sent to: ftz@trade.gov. The closing period for their receipt is March 31, 2025.

A copy of the notification will be available for public inspection in the “Online FTZ Information System” section of the Board's website.

For further information, contact Kolade Osho at Kolade.Osho@trade.gov.

Dated: February 12, 2025.
Elizabeth Whiteman,
Executive Secretary.

[FR Doc. 2025-02763 Filed 2-18-25; 8:45 am]

BILLING CODE 3510-DS-P